INTERNATIONAL TRADE COMMISSION

[USITC SE-11-030]

Government In The Sunshine Act Meeting Notice

AGENCY HOLDING THE MEETING: United States International Trade Commission.

TIME AND DATE: November 9, 2011 at 9:30 a.m.

PLACE: Room 101, 500 E Street SW. Washington, DC 20436, Telephone: (202) 205-2000.

STATUS: Open to the public.

MATTERS TO BE CONSIDERED:

1. Agendas for future meetings: None

2. Minutes

3. Ratification List

4. Vote in Inv. Nos. 701-TA-476 and 731-TA-1179 (Final)(Multilayered Wood Flooring from China). The Commission is currently scheduled to transmit its determinations and Commissioners' opinions to the Secretary of Commerce on or before November 21, 2011.

5. Outstanding action jackets: None

In accordance with Commission policy, subject matter listed above, not disposed of at the scheduled meeting, may be carried over to the agenda of the following meeting.

By order of the Commission.
Issued: October 27, 2011.
William R. Bishop,
Hearings and Meetings Coordinator.

[FR Doc. 2011-28566 Filed 11-1-11; 11:15 am]

BILLING CODE 7020-02-P